DEPARTMENT OF THE INTERIOR

Fish and Wildlife Service

Availability of a Draft Comprehensive Conservation Plan and Environmental Assessment for the DeSoto National Wildlife Refuge in Nebraska and Iowa

AGENCY: Fish and Wildlife Service, Interior.

ACTION: Notice of availability.

SUMMARY: This notice advises the public that a Draft Comprehensive Conservation Plan and Environmental Assessment for the DeSoto National Wildlife Refuge in Nebraska and Iowa will be available for public review on August 21, 2000. Comments and suggestions are requested.

DATES: Written comments are requested by September 25, 2000. A public open house meeting will be held on September 7, 2000.

ADDRESSES: Comments should be addressed to: Mr. Jim Salyer, U.S. Fish and Wildlife Service, 24385 State Highway 51, Puxico, Missouri 63960; Telephone: 800/686-8339 (toll-free) or 573/222-6001; Fax: 573/222-6150; E-Mail: r3planning@fws.gov. Individuals with speech or hearing impairments may call the Missouri Relay Service at 800/735-2966 (TTY).

The public open house will be held at the DeSoto Refuge Visitor Center, 1434 316th Lane, Missouri Valley, Iowa, 51555 from 1:00 p.m. until 8:00 p.m. During the open house, information may be obtained by calling 712/642-4121.

FOR FURTHER INFORMATION CONTACT: Mr. Jimi Salyer or Ms. Judy McClendon, U.S. Fish and Wildlife Service, 24385 State Highway 51, Puxico, Missouri 63960; Telephone: 800/686-8339 (toll-free) or 573/222-6001; Fax: 573/222-6150; E-Mail: r3planning@fws.gov. Individuals with speech or hearing or impairments may call the Missouri Relay Service at 800/735-2966 (TTY).

Individuals who would like copies of the Draft Comprehensive Conservation Plan and Environmental Assessment for review should immediately use the contact information above. Copies of the document have been sent to all agencies and individuals who participated in the scoping process and to all others who have already requested copies.

SUPPLEMENTARY INFORMATION: Mr. Leon Kolankiewicz, Environmental Planner, The Mangi Environmental Group Inc. (Mangi), is the primary author of this document. The Fish and Wildlife Service (Service), Department of the Interior, has contracted with Mangi to prepare a Comprehensive Conservation Plan (CCP) and Environmental Assessment (EA) for the DeSoto National Wildlife Refuge (Refuge) in Nebraska and Iowa which will guide management of the Refuge for the next 15 years.

The plan describes how the Refuge will provide for migratory and endangered species within its boundaries; work with partners to improve habitats beyond its boundaries; expand opportunities for wildlife viewing and fishing; further develop environmental education and interpretation of natural and cultural history; and provide outreach programs to describe appreciation of fish, wildlife, and the environmental influence of Western settlement.

The Environmental Assessment contains discussion of four alternatives under consideration that were analyzed and evaluated during planning:

(A.) No Action. No major changes in existing management goals and objectives would occur.

(B.) Maximize Restoration and Conservation of Historical Natural Resource Conditions. Management strategies would be to restore and conserve fish and wildlife populations, species and habitat diversity, composition and abundance to levels and conditions existing in the pre-development era (to about the mid-1800's).

(C.) Maximize Compatible Public Use Potentials. The six priority wildlife-dependent uses originating with the Refuge Improvement Act (interpretation, education, observation, photography, hunting, fishing) would be promoted and enhanced.

(D.) Optimize Natural Resource Conditions and Public use Potential (Preferred). This alternative seeks the best or optimal balance between the sometimes competing ideals of wildlife conservation, habitat restoration and public use.

Other government agencies and members of the general public contributed to the planning and evaluation of the proposal and to the preparation of this CCP and EA. Planning involved participation of Refuge staff, Service planners, a consultant to the Service, Refuge neighbors, organizations, local and state governmental agencies, and interested citizens. Planning team and public scoping meetings were held in July, August, September, October, and November 1999, and in January and February 2000. A focus group of 19 participants and 12 participants of an open house session provided comments.

All agencies and individuals are urged to provide comments and suggestions for improving this CCP and EA by September 25, 2000. All comments received by this date will be considered in preparation of the Final CCP and EA.

Dated: August 21, 2000.
William F. Hartwig,
Regional Director.

[FR Doc. 00-21714 Filed 8-24-00; 8:45 am]

BILLING CODE 4310-55-M